SECURITIES AND EXCHANGE COMMISSION

[Release No. 34-75312; File No. SR-ISE-2015-21]

Self-Regulatory Organizations; International Securities Exchange, LLC; Notice of Filing and Immediate Effectiveness of Proposed Rule Change To Extend the Penny Pilot Program

June 26, 2015.

Correction

In notice document 2015-16270, appearing on pages 38251 through 38253 in the issue of Thursday, July 2, 2015, make the following correction:

On page 38253, in the first column, on the eighth line from the bottom, “July 22, 2015” should read “July 23, 2015”.

[FR Doc. C1-2015-16270 Filed 7-15-15; 8:45 am]

BILLING CODE 1505-01-D